DEPARTMENT OF THE INTERIOR

Bureau of Ocean Energy Management

Gulf of Mexico, Outer Continental Shelf, Geological and Geophysical Activities: Western, Central, and Eastern Planning Areas; Final Programmatic Environmental Impact Statement

AGENCY: Bureau of Ocean Energy Management, Interior.

ACTION: Notice of availability of a record of decision.

SUMMARY: The Bureau of Ocean Energy Management (BOEM) is announcing the availability of a Record of Decision for the final programmatic environmental impact statement (EIS) for proposed geological and geophysical (G&G) activities on the Gulf of Mexico (GOM) Outer Continental Shelf (OCS). This Record of Decision identifies BOEM's selected alternative for conducting proposed G&G activities on the Gulf of Mexico OCS, which is analyzed in the Gulf of Mexico OCS Proposed Geological and Geophysical Activities: Western, Central, and Eastern Planning Areas; Final Programmatic Environmental Impact Statement (Programmatic EIS). The Record of Decision and associated information are available on BOEM's website at http://www.boem.gov//or https://www.boem.gov/regions/gulf-mexico-ocs-region/resource-evaluation/gulf-mexico-geological-and-geophysical-gg.

FOR FURTHER INFORMATION CONTACT: For more information on the Record of Decision, you may contact Ms. Helen Rucker, Chief, Environmental Assessment Section, Office of Environment, by telephone at 504-736-2421 or by email at helen.rucker@boem.gov.

SUPPLEMENTARY INFORMATION: The Programmatic EIS addresses potential environmental impacts of BOEM's Oil and Gas, Renewable Energy, and Marine Minerals Programs, and focuses particularly on the environmental impacts of off-lease and on-lease geological (bottom sampling and test drilling) and geophysical (deep-penetration, high—resolution geophysical (HRG), electromagnetic, deep stratigraphic, and remote sensing) surveys. The area evaluated (i.e., Area of Interest or AOI) includes the OCS waters that are within BOEM's Gulf of Mexico planning areas (i.e., Western, Central, and Eastern Planning Areas). The AOI also includes, for purposes of the analysis, the coastal waters of Texas, Louisiana, Mississippi, Alabama, and Florida extending from the coastline outside of estuaries seaward 3 nautical miles (nmi) (3.5 miles [mi]; 5.6 kilometers [km]) from Louisiana, Mississippi, and Alabama, or 9 nmi (10.4 mi; 16.7 km) from Texas and Florida to the limit of State jurisdiction.

In the Programmatic EIS, BOEM evaluated seven alternatives. All but the No Action Alternative focused on mitigation measures to avoid or reduce the potential environmental impacts that could result from future G&G activities in the GOM. The Programmatic EIS and Record of Decision are available at https://www.boem.gov/regions/gulf-mexico-ocs-region/resource-evaluation/gulf-mexico-geological-and-geophysical-gg.

After careful consideration, the Record of Decision identifies BOEM's selection of Alternative C of the Programmatic EIS. Under Alternative C, G&G activities would continue to be permitted and authorized, and would include the mitigation measures, monitoring, reporting, survey protocols, and guidance that were in place prior to the settlement agreement in Natural Resources Defense Council Ins., et al., v. Bernhardt, et al., Defendants and API, et al., Intervenor, Defendants, No. 2:10-cv-01882 (E.D. La.), as well as additional mitigation and temporal measures for survey protocols for seismic airgun and nonairgun HRG surveys. While BOEM is selecting Alternative C at this programmatic stage, rather than adopting the non-airgun, HRG survey protocol (as described in Appendix B of the Programmatic EIS), the protocol will be reserved, considered, and applied at the site-specific stage, on an as-needed basis, to further minimize the potential for injury to marine mammals and sea turtles. BOEM's selection of the Preferred Alternative meets the purpose of and need for the proposed action, balances regional and national policy considerations, and includes appropriate measures to minimize potential environmental and socioeconomic impacts. This decision does not by itself authorize any activities. The mitigation measures contemplated in Alternative C may be supplemented by additional requirements or tailored as site-specific circumstances warrant in permits or other specific authorizations after BOEM completes additional environmental review.

Authority: This Notice of Availability of a Record of Decision is published pursuant to the regulations (40 CFR part 1503; 1978, as amended in 1986 and 2005) implementing the provisions of the National Environmental Policy Act of 1969, as amended (42 U.S.C. 4321 et seq.).

Michael A. Celata,
Regional Director, New Orleans Office.

[FR Doc. 2020-26781 Filed 12-3-20; 8:45 am]

BILLING CODE 4310-MR-P